NATIONAL AERONAUTICS AND SPACE ADMINISTRATION

[Notice (02-133)]

Government-Owned Inventions, Available for Licensing

AGENCY: Notice of availability of inventions for licensing.

SUMMARY: The inventions listed below are assigned to the National Aeronautics and Space Administration, have been filed in the United States Patent and Trademark Office, and are available for licensing.

DATE(S): November 12, 2002.

FOR FURTHER INFORMATION CONTACT: Kent N. Stone, Patent Counsel, Glenn Research Center at Lewis Field, Mail Code 500-118, Cleveland, OH 44135; telephone (216) 433-8855, fax (216) 433-6790.

NASA Case No. LEW-16056-5: Design And Manufacturing Processes Of Long-Life Hollow Cathode Assemblies;

NASA Case No. LEW-16056-6: Design And Manufacturing Processes Of Long-Life Hollow Cathode Assemblies;

NASA Case No. LEW-16056-7: Design And Manufacturing Processes Of Long-Life Hollow Cathode Assemblies;

NASA Case No. LEW-17110-2: Method For Forming MEMS-based Spinning Nozzle;

NASA Case No. LEW-17157-1: Method For Production Of Atomic Scale Step Height Reference Specimens With Atomically Flat Surfaces;

NASA Case No. LEW-17167-1: Radio Frequency (RF) Telemetry System For Sensors And Actuators;

NASA Case No. LEW-17222-1: A Method Of Packaging A Silicon Carbide High Temperature Anemometer;

NASA Case No. LEW-17230-1: Compact Plasma Accelerator For Micro-propulsion And Low Energy Materials Processing;

NASA Case No. LEW-17241-1: Stereo Imaging Velocimetry System And Method NASA Case No. LEW-17274-1: Multilayer Article Having Stabilized Zirconia Outer Layer And Chemical Barrier Layer;

NASA Case No. LEW-17291-1: Improved Processing For Polyimdes Via Concentrated Solid Monomer Reactants Approach

Dated: November 4, 2002.
Robert M. Stephens,
Deputy General Counsel.

[FR Doc. 02-28561 Filed 11-8-02; 8:45 am]

BILLING CODE 7510-01-P